DEPARTMENT OF THE INTERIOR

Bureau of Land Management

[LLNVS00000 L12200000.PM0000 LXSS006F0000 261A; 12-08807; MO# 4500034358; TAS: 14X1109]

Notice of Public Meetings: Sierra Front-Northwestern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Sierra Front-Northwestern Great Basin Resource Advisory Council (RAC), will hold two meetings in Nevada in fiscal year 2013. The meetings are open to the public.

DATES AND TIMES: April 4-5 at the BLM Carson City District Office, 5665 Morgan Mill Road in Carson City, Nevada and a field trip on April 5; August 8-9 at the BLM Winnemucca District Office, 5100 East Winnemucca Blvd. and a field trip on August 9. Approximate meeting times are 8 a.m. to 4 p.m. However, meetings could end earlier if discussions and presentations conclude before 4 p.m. All meetings will include a public comment period at approximately 2 p.m.

FOR FURTHER INFORMATION CONTACT: Lisa Ross, Public Affairs Specialist, Carson City District Office, 5665 Morgan Mill Road, Carson City, NV 89701, telephone: (775) 885-6107, email: lross@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• April 4-5 (Carson City)—rangeland health assessments, Carson City Resource Management Plan, greater sage-grouse/Bi State conservation, recreation, and fire restoration (field trip on April 5).

• August 8-9 (Winnemucca)—landscape vegetative management and ongoing monitoring, recreation/wilderness management and Emergency Stabilization and Restoration (field trip on August 9).

Managers' reports of field office activities will be given at each meeting. The Council may raise other topics at the meetings.

Final agendas will be posted on-line at the BLM Sierra Front-Northwestern Great Basin RAC Web site at http://www.blm.gov/nv/st/en/res/resource_advisory.html and will be published in local and regional media sources at least 14 days before each meeting.

Individuals who need special assistance such as sign language interpretation or other reasonable accommodations, or who wish to receive a copy of each agenda, may contact Lisa Ross no later than 10 days prior to each meeting.

Erica Haspiel-Szlosek,
Chief, Office of Communications.

[FR Doc. 2013-04499 Filed 2-26-13; 8:45 am]

BILLING CODE 4310-HC-P